DEPARTMENT OF THE INTERIOR

Fish and Wildlife Service

[FWS-R8-ES-2020-N039; FF08ESMF00-FXES11140800000-201]

Joint Final Environmental Impact Statement and Environmental Impact Report, Joint Final Habitat Conservation Plan and Natural Community Conservation Plan; Placer County, California

AGENCY: Fish and Wildlife Service, Interior.

ACTION: Notice of availability.

SUMMARY: We, the U.S. Fish and Wildlife Service (FWS), announce the availability of a joint final environmental impact statement and final environmental impact report (final EIS/EIR) under the National Environmental Policy Act of 1967, as amended. We also announce the availability of a final Western Placer County Habitat Conservation Plan and Natural Community Conservation Plan (Final Plan). The National Marine Fisheries Service and U.S. Army Corps of Engineers are cooperating agencies on the final EIS/EIR.

DATES: A record of decision will be signed no sooner than 30 days after the publication of this notice of availability in the Federal Register. We must receive any written comments by 5 p.m. on June 22, 2020.

ADDRESSES:

Obtaining Documents: You may obtain electronic copies of the Final Plan and final EIS/EIR from the Sacramento Fish and Wildlife Office website at http://www.fws.gov/sacramento. Please use the information in the For Further Information Contact section below with questions on obtaining documents.

Submitting Comments: Please address written comments to Eric Tattersall, Assistant Field Supervisor, by facsimile to (916) 414-6713; or by mail to U.S. Fish and Wildlife Service, Sacramento Fish and Wildlife Office, 2800 Cottage Way, W-2605, Sacramento, California 95825.

FOR FURTHER INFORMATION CONTACT: Stephanie Jentsch, Senior Biologist, Conservation Planning Division; or Eric Tattersall, Assistant Field Supervisor, at the Sacramento Fish and Wildlife Office address above or by telephone at (916) 414-6600. If you use a telecommunications device for the deaf, hard-of-hearing, or speech disabled, please call the Federal Relay Service at 800-877-8339.

SUPPLEMENTARY INFORMATION: The County of Placer, City of Lincoln, South Placer Regional Transportation Authority, Placer County Water Agency, and the Placer County Authority (PCA) (collectively, the applicants) have applied for a 50-year incidental take permit (ITP) under the Endangered Species Act of 1973, as amended (ESA; 16 U.S.C. 1531 et seq.). The applicants prepared the Final Plan pursuant to section 10(a)(1)(B) of the ESA and the California Natural Community Conservation Planning Act of 2002 (NCCPA).

Background

Section 9 of the ESA (16 U.S.C. 1531-1544 et seq.) and Federal regulations (50 CFR 17) prohibit the taking of fish and wildlife species listed as endangered, and certain species listed as threatened under section 4 of the ESA. Regulations governing permits for endangered and threatened species are at 50 CFR 17.22 and 17.32. For more about the Federal habitat conservation plan program, go to http://www.fws.gov/endangered/esa-library/pdf/hcp.pdf. As cooperating agencies, NMFS may use the EIS analysis to support a decision as to whether to issue an ITP to the applicants, and the Corps may use the EIS analysis to support decisions made associated with implementing the Clean Water Act (33 U.S.C. 1251 et seq.).

NEPA requires Federal agencies to analyze their proposed actions to determine whether the actions may significantly affect the human environment. In these NEPA analyses, the Federal agency will identify direct, indirect, and cumulative effects, as well as possible mitigation for effects on environmental resources that could occur with implementation of the proposed action and alternatives.

Proposed Action

The FWS and NMFS would issue an ITP to the applicants for a period of 50 years for certain covered activities (listed below). The applicants have requested ITPs for 14 covered animal species (listed below), of which 7 are listed as endangered or threatened under the ESA.

Plan Area

The geographic scope of the Final Plan includes two plan areas. Plan Area A encompasses approximately 209,000 acres of the City of Lincoln and unincorporated lands in western Placer County and is the focus of the Final Plan. Plan Area B includes additional specific areas in Placer and Sutter Counties that are not included in Plan Area A. Combined, Plan Areas A and B cover approximately 260,000 acres.

Covered Activities

The proposed section 10 ITPs would allow take of 14 covered species resulting from covered activities in the proposed plan area. The applicants are requesting incidental take authorization for covered species resulting from covered activities, including urban and rural development, water management, conservation measures, and facilities maintenance. A complete description of the covered activities is provided in the Final Plan, Chapter 2. The applicants are also proposing to implement a number of project design features, including best management practices, as well as general and species-specific avoidance and minimization measures to minimize the impacts of the take from the covered activities.

Covered Species

The following wildlife species federally listed as endangered are proposed to be covered by the Final Plan: Conservancy fairy shrimp (Branchinecta conservatio) and vernal pool tadpole shrimp (Lepidurus packardi). The following wildlife species federally listed as threatened are proposed to be covered by the Final Plan: Giant garter snake (Thamnophis gigas), California red-legged frog (Rana draytonii), valley elderberry longhorn beetle (Desmocerus californicus dimorphus), and vernal pool fairy shrimp (Branchinecta lynchi). The following wildlife species that are not federally listed are also proposed to be covered by the Final Plan: Swainson's hawk (Buteo swainsoni), California black rail (Laterallus jamaicensis coturniculus), western burrowing owl (Athene cunicularia hypugaea), tricolored blackbird (Agelaius tricolor), western pond turtle (Actinemys marmorata), and foothill yellow-legged frog (Rana boylii).

Two species of fish are proposed to be covered by the Final Plan under an ITP from NMFS: The Central Valley steelhead (distinct population segment; Oncorhynchus mykiss irideus), which is federally listed as threatened; and the Central Valley fall/late-fall run Chinook salmon (evolutionarily significant unit; Oncorhynchus tshawytscha), which is not listed.

National Environmental Policy Act Compliance

The final EIS/EIR was prepared to analyze the impacts of issuing an ITP based on the Final Plan and to inform the public of the proposed action, alternatives, and associated impacts and to disclose any irreversible commitments of resources. The final EIS/EIR analyzes three alternatives in addition to the proposed action described above. The other alternatives include a no-action (i.e., no ITP) alternative, a reduced take/reduced fill alternative, and a reduced permit term alternative, and are all described in the Final EIS/EIR. The final EIS/EIR also includes all comments received on the draft EIS/EIR, draft HCP/NCCP, and responses to those comments.

Public Review

The FWS published a notice of intent to prepare a joint EIS/EIR in the Federal Register on March 7, 2005 (70 FR 11022), announcing a 30-day public scoping period, during which the public was invited to provide written comments and attend three public meetings. The FWS published a notice of availability of the draft EIS/EIR and draft HCP/NCCP in the Federal Register on June 21, 2019 (84 FR 29224), announcing a 60-day public comment period, during which the public was invited to provide written comments and attend two public meetings.

Copies of the final EIS/EIR and Final Plan are available for inspection (see ADDRESSES). Any comments we receive will become part of the public record. Before including your address, phone number, email address, or other personal identifying information in your comment, you should be aware that your entire comment—including your personal identifying information—may be made publicly available at any time. While you can ask us in your comment to withhold your personal identifying information from public review, we cannot guarantee that we will be able to do so.

Next Steps

Issuance of an incidental take permit is a Federal proposed action subject to compliance with NEPA and the ESA. The FWS and NMFS will evaluate the application, associated documents, and any public comments we receive to determine whether the application meets the requirements of NEPA regulations and sections 7 and 10(a) of the ESA. If FWS and NMFS determine that those requirements are met, we will issue a permit to the applicants for the incidental take of the Covered Species.

Authority

We issue this notice pursuant to section 10(c) of the ESA (16 U.S.C. 1531 et seq.) and its implementing regulations (50 CFR 17.22 and 17.32), and the National Environmental Policy Act (42 U.S.C. 4321 et seq.) and its implementing regulations (40 CFR 1506.6 and 43 CFR 46.305).

Michael Fris,
Assistant Regional Director, Pacific Southwest Region, Sacramento.

[FR Doc. 2020-10401 Filed 5-21-20; 8:45 am]

BILLING CODE 4333-15-P